DEPARTMENT OF COMMERCE

National Oceanic and Atmospheric Administration

[RTID 0648-XE780]

Pacific Fishery Management Council; Public Meeting

AGENCY: National Marine Fisheries Service (NMFS), National Oceanic and Atmospheric Administration (NOAA), Commerce.

ACTION: Notice of public meeting.

SUMMARY: The Pacific Fishery Management Council (Pacific Council) will convene three Stock Assessment Review (STAR) Panel meetings to review 2025 stock assessments for yellowtail rockfish in the area North of 40°10′ N, latitude, chilipepper rockfish, quillback rockfish off California, rougheye/blackspotted rockfish, and sablefish. The meetings will be co-hosted by the NMFS Northwest and Southwest Fisheries Science Centers. STAR panel meetings are open to the public and being conducted in person with a web broadcast that provides the opportunity for remote listening and public comment.

DATES: The STAR panel meeting (STAR Panel 1) to review a new assessment for yellowtail rockfish in the area North of 40°10′ N, latitude will be held Monday, May 19, 2025, from 9 a.m. until 5 p.m. (Pacific Time), and will continue from May 20 through May 23, 2025, from 9 a.m. to 12 p.m., each day, or until business for each day has been completed.

The STAR panel meeting (STAR Panel 2) to review new assessments for chilipepper rockfish and quillback rockfish off California will be held Monday, June 23, 2025 and will continue through Friday, June 27, 2025, from 8:30 a.m. until 5 p.m. (Pacific Time), each day, or until business for the day has been completed.

The STAR panel meeting (STAR Panel 3) to review new assessments for rougheye/blackspotted rockfish and sablefish will be held Monday, July 14, 2025 and will continue through Friday, July 18, 2025, from 8:30 a.m. until 5 p.m. (Pacific Time) or until business for the day has been completed.

ADDRESSES: The STAR panel for yellowtail rockfish in the area North of 40°10′ N, latitude (STAR Panel 1), will be held at the Watertown Hotel, 4242 Roosevelt Way NE, Seattle, WA 98105; telephone: (206) 826-4242.

The STAR panel for chilipepper rockfish and quillback rockfish off California (STAR Panel 2) will be held at the National Marine Fisheries Service, Southwest Fisheries Science Center, Santa Cruz Laboratory, 110 McAllister Way, Santa Cruz, CA 95060; telephone: (831) 420-3900.

The STAR panel for rougheye/blackspotted rockfish and sablefish (STAR Panel 3), will be held at the University of Washington, School of Aquatic and Fishery Sciences (SAFS) Room 203, 1122 NE Boat Street, Seattle, WA 98195; telephone: (206) 543-4270.

These meetings are being conducted in person with a web broadcast that provides the opportunity for remote public comment. Specific meeting information, materials, visitor protocols, and instructions for how to connect to the meeting remotely will be provided in the meeting announcement on the Pacific Council's website (see www.pcouncil.org). In the event an outage occurs, or technical issues arise that impact the experience of remote attendees, we will attempt to resolve them but ultimately, we cannot guarantee that they will be resolved satisfactorily.

Council address: Pacific Fishery Management Council, 7700 NE Ambassador Place, Suite 101, Portland, OR 97220-1384.

FOR FURTHER INFORMATION CONTACT: Dr. Owen Hamel, NMFS Northwest Fisheries Science Center, telephone: (206) 860-3481, email: owen.hamel@noaa.gov; Dr. John Field, NMFS Southwest Fisheries Science Center, telephone: (831) 420-3907, email: john.field@noaa.gov; or Marlene A. Bellman, Staff Officer, Pacific Council; telephone: (503) 820-2414, email: marlene.bellman@pcouncil.org.

SUPPLEMENTARY INFORMATION: The purpose of the STAR Panels is to review draft 2025 stock assessment models, documents, and any other pertinent information for yellowtail rockfish in the area North of 40°10′ N, latitude, chilipepper rockfish, quillback rockfish off California, rougheye/blackspotted rockfish, and sablefish; work with the Stock Assessment Teams to make necessary revisions; and produce STAR Panel reports for use by the Pacific Council and other interested persons for developing management recommendations for fisheries in 2027 and beyond. The review panels will consist of members of the Pacific Council's Scientific and Statistical Committee's Groundfish Subcommittee, at least one independent expert from the Center for Independent Experts, and other invited expert reviewers. Representatives of the Pacific Council's Groundfish Management Team and the Groundfish Advisory Subpanel will also participate in the review as advisers.

No management actions will be decided by the STAR Panels. The STAR Panel participants' role will be the development of recommendations and reports for consideration by the Pacific Council at its September 2025 meeting in Spokane, WA.

Although non-emergency issues not contained in the meeting agendas may be discussed, those issues may not be the subject of formal action during these meetings. Action will be restricted to those issues specifically listed in this document and any issues arising after publication of this document that require emergency action under section 305(c) of the Magnuson-Stevens Fishery Conservation and Management Act, provided the public has been notified of the intent to take final action to address the emergency.

Visitors to the NMFS Southwest Fisheries Science Center will need to obtain a visitor badge. Visitor protocols will be provided in the meeting announcement on the Pacific Council's website (see www.pcouncil.org).

Special Accommodations

These meetings are physically accessible to people with disabilities. Requests for sign language interpretation or other auxiliary aids should be directed to Mr. Kris Kleinschmidt (kris.kleinschmidt@pcouncil.org; (503) 820-2412 at least 10 days prior to the meeting date.

Authority: 16 U.S.C. 1801 et seq.

Dated: March 13, 2025.
Rey Israel Marquez,
Acting Deputy Director, Office of Sustainable Fisheries, National Marine Fisheries Service.

[FR Doc. 2025-04442 Filed 3-17-25; 8:45 am]

BILLING CODE 3510-22-P